DEPARTMENT OF COMMERCE

International Trade Administration

[A-533-840]

Certain Frozen Warmwater Shrimp From India: Rescission of Antidumping Duty Administrative Review; 2019-2020, in Part

AGENCY: Enforcement and Compliance, International Trade Administration, Department of Commerce.

SUMMARY: On April 8, 2020, the Department of Commerce (Commerce) initiated an administrative review of the antidumping duty (AD) order on certain frozen warmwater shrimp (shrimp) from India for the period February 1, 2019 through January 31, 2020, for 235 companies. Because all interested parties timely withdrew their requests for administrative review for certain companies, we are rescinding this administrative review with respect to those companies. For a list of the companies for which we are rescinding this review, see Appendix I to this notice. For a list of the companies for which the review is continuing, see Appendix II to this notice.

DATES: Applicable October 15, 2020.

FOR FURTHER INFORMATION CONTACT: Adam Simons or Ajay Menon, AD/CVD Operations, Office II, Enforcement and Compliance, International Trade Administration, U.S. Department of Commerce, 1401 Constitution Avenue NW, Washington, DC 20230; telephone: (202) 482-6172 or (202) 482-1993.

Background

On February 3, 2020, Commerce published in the Federal Register a notice of opportunity to request an administrative review of the AD order on shrimp from India for the period February 1, 2019 through January 31, 2020.¹ In February 2020, Commerce received timely requests, in accordance with section 751(a) of the Tariff Act of 1930, as amended (the Act), to conduct an administrative review of this antidumping duty order from the Ad Hoc Shrimp Trade Action Committee (the petitioner), the American Shrimp Processors Association (ASPA), and certain individual companies. Based on these requests, on April 8, 2020, in accordance with section 751(a) of the Act, Commerce published in the Federal Register a notice of initiation listing 235 companies for which Commerce received timely requests for review.²

¹ See Antidumping or Countervailing Duty Order, Finding, or Suspended Investigation; Opportunity to Request Administrative Review, 85 FR 5938 (February 3, 2020).

² See Initiation of Antidumping and Countervailing Duty Administrative Reviews, 85 FR 19730 (April 8, 2020) (Initiation Notice).

On April 24, 2020, Commerce tolled all deadlines for administrative reviews by 50 days, and, on July 21, 2020, Commerce tolled deadlines for preliminary and final results in administrative reviews by an additional 60 days.³

³ See Memorandum, “Tolling of Deadlines for Antidumping and Countervailing Duty Administrative Reviews in Response to Operational Adjustments Due to COVID-19,” dated April 24, 2020; and Memorandum, “Tolling of Deadlines for Antidumping and Countervailing Duty Administrative Reviews,” dated July 21, 2020.

In August 2020, all interested parties timely withdrew their requests for an administrative review of certain companies.⁴ These companies are listed in Appendix I.

⁴ See Magnum Sea Foods Limited and Magnum Estates Limited's Letter, “Magnum Withdrawal of Review Request for Administrative Review of the Antidumping Duty Order on Certain Frozen Warmwater Shrimp from India,” dated August 17, 2020; see also ASPA's Letter, “Certain Frozen Warmwater Shrimp from India: American Shrimp Processors Association's Partial Withdrawal of Review Requests,” dated August 20, 2020; Petitioner's Letter, “Certain Frozen Warmwater Shrimp from India: Domestic Producers' Partial Withdrawal of Review Requests,” dated August 20, 2020; Indian Producers' Letter, “Certain Frozen Warmwater Shrimp from India: Withdrawal of Requests for Administrative Review for 24 Indian Producers/Exporters (02/01/19-01/31/20),” dated August 20, 2020; and West Coast Frozen Foods Private Limited's Letter, “Frozen Warmwater Shrimp from India-Withdrawal of Request for Antidumping Duty Admin Review of West Coast Frozen Foods Private Limited,” dated August 24, 2020.

Partial Rescission

Pursuant to 19 CFR 351.213(d)(1), the Secretary will rescind an administrative review, in whole or in part, if a party who requested the review withdraws the request within 90 days of the date of publication of notice of initiation of the requested review. As noted above, certain parties withdrew their requests for review by the 90-day tolled deadline. Accordingly, we are rescinding this administrative review with respect to the companies listed in Appendix I.

Assessment

Commerce will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). Commerce intends to issue appropriate assessment instructions to CBP 15 days after publication of this notice in the Federal Register.

Notification to Importers

This notice serves as a reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Orders

This notice also serves as a reminder to parties subject to administrative protective order (APO) of their responsibility concerning the return or destruction of proprietary information disclosed under APO in accordance with 19 CFR 351.305. Timely written notification of the return/destruction of APO materials or conversion to judicial protective order is hereby requested. Failure to comply with the regulations and terms of an APO is a violation which is subject to sanction.

Notification to Interested Parties

This notice is issued and published in accordance with section 751(a)(1) of the Act and 19 CFR 351.213(d)(4).

Dated: October 8, 2020.
James Maeder,
Deputy Assistant Secretary for Antidumping and Countervailing Duty Operations

Appendix I

Akshay Food Impex Private Limited

Alashore Marine Exports (P) Limited

Alpha Marine

Ananda Aqua Applications/Ananda Aqua Exports (P) Limited/Ananda Foods

Ananda Enterprises (India) Private Limited

Apex Frozen Foods Limited

Aquatica Frozen Foods Global Pvt. Ltd.

Arya Sea Foods Private Limited

Asvini Fisheries Ltd/Asvini Fisheries Private Ltd

Avanti Frozen Foods Private Ltd.

Bluepark Seafoods Pvt. Ltd.

BMR Exports

BMR Industries Private Limited

B-One Business House Private Limited

C.P. Aquaculture (India) Pvt. Ltd.

Calcutta Seafoods Pvt. Ltd./Bay Seafood Pvt. Ltd./Elque & Co.

Castlerock Fisheries Ltd.

Choice Trading Corporation Pvt. Ltd.

Coastal Aqua Private Limited

Coastal Corporation Ltd.

CPF (India) Private Limited

Devi Fisheries Limited/Satya Seafoods Private Limited/Usha Seafoods/Devi Aquatech Private Limited

Devi Marine Food Exports Private Ltd./Kader Export Private Limited/Kader Investment and Trading Company Private Limited/Liberty Frozen Foods Pvt. Ltd./Liberty Oil Mills Ltd/Premier Marine Products Private Limited/Universal Cold Storage Private Limited

Diamond Seafoods Exports/Edhayam Frozen Foods Pvt. Ltd/Kadalkanny Frozen Foods/Theva & Company

Falcon Marine Exports Limited/KR Enterprises

Five Star Marine Exports Private Limited

Forstar Frozen Foods Pvt. Ltd.

Geo Seafoods

Growel Processors Private Limited

IFB Agro Industries Limited

ITC Ltd.

Jagadeesh Marine Exports

Jayalakshmi Sea Foods Pvt. Ltd.

KNC Agro Pvt. Ltd.

K V Marine Exports

Kalyan Aqua & Marine Exp. India Pvt. Ltd.

Magnum Export

Magnum Sea Foods Limited/Magnum Estates Limited ⁵

⁵ In the Initiation Notice, we also incorrectly listed the company name Magnum Esates (sic) Limited; however, no interested party requested a review of this variation of the name of Magnum Estates Limited. Therefore, we will not continue to review this name variation.

Mangala Marine Exim India Pvt. Ltd.

Mangala Seafoods

Milesh Marine Exports Private Limited

Monsun Foods Pvt. Ltd.

Mourya Aquex Private Limited

Munnangi Seafoods (Pvt) Ltd.

Naga Hanuman Fish Packers

Neeli Aqua Private Limited

Nekkanti Sea Foods Limited

Nezami Rekha Sea Foods Private Limited

Nila Sea Foods Exports

Nila Sea Foods Pvt. Ltd.

Pasupati Aquatics Private Limited

Penver Products (P) Ltd.

Ram's Assorted Cold Storage Ltd.

Razban Seafoods Ltd.

Royale Marine Impex Private Limited

S A Exports

Sagar Grandhi Exports Pvt. Ltd.

Sai Marine Exports Pvt. Ltd.

Sai Sea Foods

Sanchita Marine Products P Ltd

Sandhya Aqua Exports Pvt. Ltd.

Sandhya Marines Limited

Sea Foods Private Limited

Sharat Industries Ltd.

Shree Datt Aquaculture Farms Pvt. Ltd.

Southern Tropical Foods Pvt. Ltd.

Sprint Exports Pvt. Ltd.

Srikanth International

Sunrise Seafoods India Private Limited

Suryamitra Exim (P) Ltd.

V V Marine Products

Vasista Marine

Veerabhadra Exports Private Limited

Wellcome Fisheries Limited

West Coast Fine Foods (India) Private Limited

West Coast Frozen Foods Private Limited

Z.A. Sea Foods Pvt. Ltd.

Appendix II

Abad Fisheries Private Limited

ADF Foods Ltd.

Albys Agro Private Limited

Al-Hassan Overseas Private Limited

Allana Frozen Foods Pvt. Ltd.

Allanasons Ltd.

Alps Ice & Cold Storage Private Limited

Amarsagar Seafoods Private Limited

Amulya Seafoods

Anantha Seafoods Private Limited

Anjaneya Seafoods

Asvini Agro Exports

Ayshwarya Seafood Private Limited

B R Traders

Baby Marine Eastern Exports

Baby Marine Exports

Baby Marine International

Baby Marine Sarass

Baby Marine Ventures

Balasore Marine Exports Private Limited

BB Estates & Exports Private Limited

Bell Exim Private Limited (Bell Foods (Marine Division))

Bell Exim Pvt. Ltd.

Bhatsons Aquatic Products

Bhavani Seafoods

Bijaya Marine Products

Blue Fin Frozen Foods Pvt. Ltd.

Blue Water Foods & Exports P. Ltd.

Britto Seafood Exports Pvt Ltd.

Canaan Marine Products

Capithan Exporting Co.

Cargomar Private Limited

Chakri Fisheries Private Limited

Chemmeens (Regd)

Cherukattu Industries (Marine Div)

Cochin Frozen Food Exports Pvt. Ltd.

Continental Fisheries India Pvt. Ltd.

Coreline Exports

Corlim Marine Exports Pvt. Ltd.

Crystal Sea Foods Private Limited

Delsea Exports Pvt. Ltd.

Devi Sea Foods Limited ⁶

⁶ Shrimp produced and exported by Devi Sea Foods Limited (Devi) was excluded from the order effective February 1, 2009. See Certain Frozen Warmwater Shrimp from India: Final Results of the Antidumping Duty Administrative Review, Partial Rescission of Review, and Notice of Revocation of Order in Part, 75 FR 41813, 41814 (July 19, 2010). Accordingly, we initiated this administrative review with respect to Devi only for shrimp produced in India where Devi acted as either the manufacturer or exporter (but not both).

Empire Industries Limited

Entel Food Products Private Limited

Esmario Export Enterprises

Everblue Sea Foods Private Limited

Febin Marine Foods

Fouress Food Products Private Limited

Frontline Exports Pvt. Ltd.

G A Randerian Ltd.

Gadre Marine Exports

Galaxy Maritech Exports P. Ltd.

Geo Aquatic Products (P) Ltd.

Godavari Mega Aqua Food Park Private Limited

Grandtrust Overseas (P) Ltd.

Green House Agro Products

GVR Exports Pvt. Ltd.

Hari Marine Private Limited

Haripriya Marine Export Pvt. Ltd.

HIC ABF Special Foods Pvt. Ltd.

Hiravati Exports Pvt. Ltd.

Hiravati International Pvt. Ltd. (located at Jawar Naka, Porbandar, Gujarat, 360 575, India)

Hiravati Marine Products Private Limited

HMG Industries Limited

HN Indigos Private Limited

Hyson Logistics and Marine Exports Private Limited

Indian Aquatic Products

Indo Aquatics

Indo Fisheries

Indo French Shellfish Company Private Limited

International Freezefish Exports

Jinny Marine Traders

Jiya Packagings

Karunya Marine Exports Private Limited

Kaushalya Aqua Marine Products Exports Pvt. Ltd.

Kay Kay Exports

Kings Marine Products

Koluthara Exports Ltd.

Landauer Ltd.

Libran Cold Storages (P) Ltd.

Mangala Sea Products

Marine Harvest India

Megaa Moda Pvt. Ltd.

Milsha Agro Exports Private Limited

Milsha Sea Products

Minaxi Fisheries Private Limited

Mindhola Foods LLP

MMC Exports Limited

MTR Foods

N.K. Marine Exports LLP

Naik Frozen Foods

Naik Oceanic Exports Pvt. Ltd./Rafiq Naik Exports Pvt. Ltd.

Naik Seafoods Ltd.

Nekkanti Mega Food Park Private Limited

Nine Up Frozen Foods

Nutrient Marine Foods Limited

Oceanic Edibles International Limited

Paragon Sea Foods Pvt. Ltd.

Paramount Seafoods

Parayil Food Products Pvt., Ltd.

Pesca Marine Products Pvt., Ltd.

Pijikay International Exports P Ltd.

Pravesh Seafood Private Limited

Premier Exports International

Premier Marine Foods

Premier Seafoods Exim (P) Ltd.

RDR Exports

R F Exports

RF Exports Private Limited

RSA Marines

R V R Marine Products Limited

Raju Exports

Raunaq Ice & Cold Storage

Royal Imports and Exports

Royal Oceans

Rupsha Fish Private Limited

S Chanchala Combines Private Limited

Sagar Samrat Seafoods

Sahada Exports

Salet Seafoods Private Limited

Samaki Exports Private Limited

Sasoondock Matsyodyog Sahakari Society Ltd.

Seagold Overseas Pvt. Ltd.

Shimpo Exports Private Limited

Shimpo Seafoods Private Limited

Shiva Frozen Food Exp. Pvt. Ltd.

Shroff Processed Food & Cold Storage P Ltd.

Silver Seafood

Sita Marine Exports

Sonia Fisheries Private Limited

Sri Sakkthi Cold Storage

SSF Ltd.

Star Agro Marine Exports Private Limited

Star Organic Foods Private Limited

Stellar Marine Foods Private Limited

Sterling Foods

Sun Agro Exim

Supran Exim Private Limited

Suvarna Rekha Exports Private Limited

Suvarna Rekha Marines P Ltd.

TBR Exports Pvt Ltd.

Teekay Marine P. Ltd.

The Waterbase Limited

Triveni Fisheries P Ltd.

U & Company Marine Exports

Ulka Sea Foods Private Limited

Uniroyal Marine Exports Ltd.

Unitriveni Overseas

Vasai Frozen Food Co.

Veronica Marine Exports Private Limited

Victoria Marine & Agro Exports Ltd.

Vinner Marine

Vitality Aquaculture Pvt. Ltd.

VRC Marine Foods LLP

Zeal Aqua Limited

[FR Doc. 2020-22821 Filed 10-14-20; 8:45 am]

BILLING CODE 3510-DS-P